DEPARTMENT OF ENERGY

Federal Energy Regulatory Commission

Combined Notice of Filings #2

Take notice that the Commission received the following electric rate filings:

Docket Numbers: ER10-2564-006; ER10-2600-006; ER10-2289-006.

Applicants: Tucson Electric Power Company, UNS Electric, Inc., UniSource Energy Development Company.

Description: Supplement to December 31, 2015 Triennial Market Power Update for the Southwest Region of the Fortis, Inc. subsidiaries, et al.

Filed Date: 8/1/16.

Accession Number: 20160801-5130.

Comments Due: 5 p.m. ET 9/30/16.

Docket Numbers: ER10-2641-026; ER10-2663-026; ER10-2881-026; ER10-2882-027; ER10-2883-026; ER10-2884-026; ER10-2885-026; ER10-2886-027; ER13-1101-022; ER13-1541-021; ER14-661-013; ER14-787-015; ER15-54-007; ER15-55-007; ER15-647-004; ER15-1475-008; ER15-2191-003; ER15-2453-003; ER15-2593-007; ER16-452-007; ER16-705-005; ER16-706-005; ER16-1154-005.

Applicants: Oleander Power Project, L.P., Southern Company—Florida LLC, Southern Power Company, Alabama Power Company, Georgia Power Company, Mississippi Power Company, Gulf Power Company, Southern Turner Cimarron I, LLC, Spectrum Nevada Solar, LLC, Campo Verde Solar, LLC, SG2 Imperial Valley LLC, Macho Springs Solar, LLC, Lost Hills Solar, LLC, Blackwell Solar, LLC, Kay Wind, LLC, North Star Solar, LLC, Grant Wind, LLC, Passadumkeag Windpark, LLC, Desert Stateline LLC, RE Tranquillity LLC, RE Garland A LLC, RE Garland LLC, Parrey, LLC.

Description: Notification of Non-Material of Change in Status of Oleander Power Project, Limited Partnership, et al.

Filed Date: 8/1/16.

Accession Number: 20160801-5157.

Comments Due: 5 p.m. ET 8/22/16.

Docket Numbers: ER16-2327-000.

Applicants: California Independent System Operator Corporation.

Description: Compliance filing: 2016-07-29 Petition Limited Waiver BART LSE to be effective N/A.

Filed Date: 7/29/16.

Accession Number: 20160729-5227.

Comments Due: 5 p.m. ET 8/8/16.

Docket Numbers: ER16-2338-000.

Applicants: Emera Energy Services Subsidiary No. 4 LLC.

Description: § 205(d) Rate Filing: Amend Market-Based Rate Tariff to be effective 7/1/2016.

Filed Date: 8/1/16.

Accession Number: 20160801-5072.

Comments Due: 5 p.m. ET 8/22/16.

Docket Numbers: ER16-2339-000.

Applicants: Emera Energy Services Subsidiary No. 5 LLC.

Description: § 205(d) Rate Filing: Amend Market-Based Rate Tariff to be effective 7/1/2016.

Filed Date: 8/1/16.

Accession Number: 20160801-5074.

Comments Due: 5 p.m. ET 8/22/16.

Docket Numbers: ER16-2340-000.

Applicants: Emera Energy Services Subsidiary No. 6 LLC.

Description: § 205(d) Rate Filing: Amend Market-Based Rate Tariff to be effective 7/1/2016.

Filed Date: 8/1/16.

Accession Number: 20160801-5077.

Comments Due: 5 p.m. ET 8/22/16.

Docket Numbers: ER16-2341-000.

Applicants: Emera Energy Services Subsidiary No. 7 LLC.

Description: § 205(d) Rate Filing: Amend Market-Based Rate Tariff to be effective 7/1/2016.

Filed Date: 8/1/16.

Accession Number: 20160801-5083.

Comments Due: 5 p.m. ET 8/22/16.

Docket Numbers: ER16-2342-000.

Applicants: Emera Energy Services Subsidiary No. 8 LLC.

Description: § 205(d) Rate Filing: Amend Market-Based Rate Tariff to be effective 7/1/2016.

Filed Date: 8/1/16.

Accession Number: 20160801-5086.

Comments Due: 5 p.m. ET 8/22/16.

Docket Numbers: ER16-2343-000.

Applicants: Emera Energy Services Subsidiary No. 9 LLC.

Description: § 205(d) Rate Filing: Amend Market-Based Rate Tariff to be effective 7/1/2016.

Filed Date: 8/1/16.

Accession Number: 20160801-5087.

Comments Due: 5 p.m. ET 8/22/16.

Docket Numbers: ER16-2344-000.

Applicants: Emera Energy Services Subsidiary No. 10 LLC.

Description: § 205(d) Rate Filing: Amend Market-Based Rate Tariff to be effective 7/1/2016.

Filed Date: 8/1/16.

Accession Number: 20160801-5088.

Comments Due: 5 p.m. ET 8/22/16.

Docket Numbers: ER16-2345-000.

Applicants: Rumford Power Inc.

Description: § 205(d) Rate Filing: Amend Market-Based Rate Tariff to be effective 7/1/2016.

Filed Date: 8/1/16.

Accession Number: 20160801-5089.

Comments Due: 5 p.m. ET 8/22/16.

Docket Numbers: ER16-2346-000.

Applicants: Tiverton Power LLC.

Description: § 205(d) Rate Filing: Amend Market-Based Rate Tariff to be effective 7/1/2016.

Filed Date: 8/1/16.

Accession Number: 20160801-5090.

Comments Due: 5 p.m. ET 8/22/16.

Docket Numbers: ER16-2347-000.

Applicants: Bridgeport Energy LLC.

Description: § 205(d) Rate Filing: Amend Market-Based Rate Tariffs to be effective 7/1/2016.

Filed Date: 8/1/16.

Accession Number: 20160801-5091.

Comments Due: 5 p.m. ET 8/22/16.

Docket Numbers: ER16-2348-000.

Applicants: Mesquite Solar 3, LLC.

Description: Initial rate filing: Mesquite Solar 3, LLC LGIA Co-Tenancy Agreement to be effective 8/5/2016.

Filed Date: 8/1/16.

Accession Number: 20160801-5110.

Comments Due: 5 p.m. ET 8/22/16.

Docket Numbers: ER16-2349-000.

Applicants: PJM Interconnection, L.L.C.

Description: § 205(d) Rate Filing: Service Agreement No. 4504, Queue Position Z2-081 to be effective 7/1/2016.

Filed Date: 8/1/16.

Accession Number: 20160801-5111.

Comments Due: 5 p.m. ET 8/22/16.

Docket Numbers: ER16-2350-000.

Applicants: PJM Interconnection, L.L.C.

Description: § 205(d) Rate Filing: 2nd Quarter 2016 Update to OA and RAA Member Lists to be effective 6/30/2016.

Filed Date: 8/1/16.

Accession Number: 20160801-5113.

Comments Due: 5 p.m. ET 8/22/16.

Docket Numbers: ER16-2351-000.

Applicants: Arizona Public Service Company.

Description: § 205(d) Rate Filing: Rate Schedule No. 217, Exhibit B.KOF to be effective 10/1/2016.

Filed Date: 8/1/16.

Accession Number: 20160801-5116.

Comments Due: 5 p.m. ET 8/22/16.

Docket Numbers: ER16-2352-000.

Applicants: Midcontinent Independent System Operator, Inc., Union Electric Company.

Description: § 205(d) Rate Filing: 2016-08-01_SA 2934 Ameren Missouri-City of Farmington Construction Agreement to be effective 7/7/2016.

Filed Date: 8/1/16.

Accession Number: 20160801-5127.

Comments Due: 5 p.m. ET 8/22/16.

Docket Numbers: ER16-2353-000.

Applicants: Pacific Gas and Electric Company.

Description: Notice of Termination of Small Generator Interconnection Service Agreement No. 316 of Pacific Gas and Electric Company.

Filed Date: 8/1/16.

Accession Number: 20160801-5132.

Comments Due: 5 p.m. ET 8/22/16.

Docket Numbers: ER16-2354-000.

Applicants: PacifiCorp.

Description: Tariff Cancellation: Termination of Georgia-Pacific E&P Agmt ? Troutdale Sub to be effective 10/3/2016.

Filed Date: 8/1/16.

Accession Number: 20160801-5158.

Comments Due: 5 p.m. ET 8/22/16.

Docket Numbers: ER16-2355-000.

Applicants: Midcontinent Independent System Operator, Inc.

Description: Compliance filing: 2016-08-01_RSG Exemptions Compliance Filing to be effective 8/31/2010.

Filed Date: 8/1/16.

Accession Number: 20160801-5179.

Comments Due: 5 p.m. ET 8/22/16.

Docket Numbers: ER16-2356-000.

Applicants: SEP II, LLC.

Description: Initial rate filing: SEP II, LLC Certificate of Concurrence to LGIA Co-Tenancy Agreement to be effective 8/5/2016.

Filed Date: 8/1/16.

Accession Number: 20160801-5180.

Comments Due: 5 p.m. ET 8/22/16.

Docket Numbers: ER16-2357-000.

Applicants: Emera Energy Services, Inc.

Description: § 205(d) Rate Filing: Amend Market-Based Rate Tariff to be effective 7/1/2016.

Filed Date: 8/1/16.

Accession Number: 20160801-5189.

Comments Due: 5 p.m. ET 8/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2016.
Nathaniel J. Davis, Sr.,
Deputy Secretary.

[FR Doc. 2016-18799 Filed 8-8-16; 8:45 am]

BILLING CODE 6717-01-P